FEDERAL MARITIME COMMISSION

Ocean Transportation Intermediary License Applicants

Notice is hereby given that the following applicants have filed with the Federal Maritime Commission an application for license as a Non-Vessel-Operating Common Carrier and Ocean Freight Forwarder-Ocean Transportation Intermediary pursuant to section 19 of the Shipping Act of 1984 as amended (46 U.S.C. Chapter 409 and 46 CFR part 515).

Persons knowing of any reason why the following applicants should not receive a license are requested to contact the Office of Transportation Intermediaries, Federal Maritime Commission, Washington, DC 20573.

Non-Vessel-Operating Common Carrier Ocean Transportation Intermediary Applicants:

Embarque San Miguel, 294 Passaic Street, Passaic, NJ 07055, Officers: Berto L. Batista Urena, President (Qualifying Individual), Juan A. Rodriguez, Vice President.

CIF Group International, Inc., 11014 NW. 33rd Street, Ste. 109, Miami, FL 33172, Officer: Juniette D. Lopez, Director (Qualifying Individual).

Hyde Express LLC, 10025 NW. 116th Way, Ste. 2, Medley, FL 33178, Officers: Alfred C. McNab, Manager (Qualifying Individual), David M. Hyde, Member.

CN Worldwide Inc., 935 de La Gauchetiere Street West, Montreal, Quebec H2B 2M9, Canada, Officers: Anita Ernesaks, President (Qualifying Individual), Paul Tawel, Treasurer.

Efuge Corp., 17128 Colima Road, Ste. 202, Hacienda Heights, CA 91745, Officer: Beilin Zhao, President (Qualifying Individual).

Streamline Trade Management Inc., dba Teamwork Logistic, 177-25 Rockaway Blvd., Ste. 213, Jamaica, NY 11434, Officers: Bo Yu Zheng, Vice President (Qualifying Individual), Zhanming J. Chen, President.

Quality One International Shipping Express Corp., 636 Magenta Street, Bronx, NY 10467, Officers: Patrick Lee, President (Qualifying Individual), Marcia Donald, Secretary.

Synergy Freightways Pvt. Ltd., 602 Chiranjiv Tower, 43 Nehru Place, New Delhi, India, Officers: Vinod Mani, Vice President (Qualifying Individual), Sumer Singh, Director.

SPG Service, 95½ Prospect Street, Ste. 3, Newark, NJ 07105, Sandra P. Guevara, Sole Proprietor.

GB Ocean, Inc., 1510 Otterbein Ave., Rowland Hts, CA 91748, Officer: Bo (Burton) Qu, President (Qualifying Individual).

Vegano Shipping & Multi Services Corp., 165 Sherman Ave., New York, NY 10034, Officer: Pedro Sime, President (Qualifying Individual).

Pacific Road Logistics, Inc., 4909 Lakewood Blvd., Ste. 301, Lakewood, CA 90712, Officer: Choong (Phil) W. Kim, Secretary (Qualifying Individual).

E-Freight Solutions Inc., dba Fleet International Transport, 1990 N. Rosemead Blvd, Ste. 201, South El Monte, CA 91733, Officers: Joey Tam, President (Qualifying Individual), Yu Chi Lee, Secretary.

UPS Ocean Freight Services, Inc., 12380 Morris Road, Alpharetta, GA 30005, Officers: Jimmy Crabbe, Vice President (Qualifying Individual), Teri P. McClure, President.

Master Moving System, Inc., 9284 Talway Circle, Boynton Beach, FL 33472, Officer: Hanan Assayag, President (Qualifying Individual).

Kenneth Bola Obatusin, 10630 Riggs Hill Road, Bldg. R, Jessup, MD 20794, Officers: Kenneth B. Obatusin, CEO (Qualifying Individual).

Seapack Inc., 2820 NW. 105th Ave., Ste. B, Miami, FL 33172, Officer: Mark G. Kearns, President (Qualifying Individual).

Non-Vessel-Operating Common Carrier and Ocean Freight Forwarder Transportation Intermediary Applicants:

Kingscote Freight, Inc., 600 Bayview Avenue, Ste. 303, Inwood, NY 11096, Officers: Patricia Kelly, Vice President (Qualifying Individual), Jonathan Hales, President.

ICT International Cargo Transport (USA) Inc., 6909 Engle Road, Suite C-29, Middleburg Heights, OH 44130, Officers: Edward Zarefoss, Secretary (Qualifying Individual), Hendrik Rigtering, General Manager.

Beauty & Logistics, Corp. dba B&L Corp., 2814 NW. 112 Ave., Doral, FL 33172, Officer: Jean-Francois Blanc, President (Qualifying Individual).

Transcontinental Maritime Ltd., 2500 West Higgins Road, Suite 150, Hoffman Estates, IL 60195, Officers: Janet Fiore, Secretary (Qualifying Individual), David Kratt, President.

Elite Transportation Services, LLC dba Elite Logistics Worldwide, 6600 NE 78th Ct., Portland, OR 97218, Officer: David DeBoer, Vice President (Qualifying Individual).

Procargo USA LLC, 1360 NW. 78 Ave., Doral, FL 33126, Marcelo A. Leston, Manager (Qualifying Individual).

Temma Freight Logistics, Inc., 8372 NW. 68th Ter., Miami, FL 33166, Officers: Aymara Sucre, COO (Qualifying Individual), Gregorio Farfan, President.

Dakini International Logistics Inc., 36707 212th Way SE., Auburn, WA 98092, Officers: Terri L. Danz, Director (Qualifying Individual), Sharon A. Gunter, Director.

Airport Clearance Service, Inc. dba ACS Lines, 100 Lighting Way, Ste. 4000, Secaucus, NJ 07094, Officers: Jose I. Quesada, Dir. Global Pricing and Compliance (Qualifying Individual), Brian Posthumus, CEO.

Expeditionary Global Logistics, LLC dba Forward Express, 1900 Westridge Drive, Ste. 200, Irving, TX 75038, Officers: Rebecca L. Wibbeler, Member (Qualifying Individual), Hussen M. Haidar, Member.

Danesi USA, Inc., 7500 NW. 25th Street, Ste. 284, Miami, FL 33122, Officers: Jennifer Suarez, Manager (Qualifying Individual), Andrea Danesi, Director.

Marshal Freight Inc. dba Marshal Global, 6030 Riverside Drive, Ste. E, Chino, CA 91710, Officers: Jerick Cortes, CEO (Qualifying Individual), Maria Valderrama, President.

Dedicated Global Carriers, LLC, 4627 Town N. Country Blvd., Tampa, FL 33615, Officers: Robert J. Menendez, Manager (Qualifying Individual), Danny Mills, Vice President.

DGS Logistics, LLC dba DGS Ocean, 36 Evelyn Lane, Syosset, NY 11791, Officer: Patrick Jacob, Managing Member (Qualifying Individual).

Base Ventures Shipping dba Base Ventures International, 1405 Silver Lake Rd., NW., Ste. 201, New Brighton, MN 55112, Oluwaseyi Olawore, Sole Proprietor.

James J. Boyle & Co. dba JJB Link Logistics Company, Limited dba JJB Inland Logistics dba JJB Global, Logistics Co. Ltd., 1097 Sneath Lane, San Bruno, CA 94066, Officers: Greg Kodama, President (Qualifying Individual), Edward H. Inouye, CEO.

Oceanair Forwarding, Inc., 11232 St. Johns Ind Pkwy North, Ste. 6, Jacksonville, FL 32246, Officers: Philipus Suarto, Vice President (Qualifying Individual), Martin Pluis, President.

Chaucer Freight LLC, 909 AEC Drive, Wood Dale, IL 60191, Officer: Kathy Orzechowski, Operations Dir., (Qualifying Individual).

Newskin Express, Inc. dba NSK Logistics, Inc., 400 Crenshaw Blvd., Ste. 109, Torrance, CA 90503. Officer: Soo Jin Rho, President (Qualifying Individual).

Ocean Wings Logistics, Inc. dba LL Lines, 3340C Greens Rd., Ste. 555, Houston, TX 77032, Officers: Maria R. Banuelos, Secretary (Qualifying Individual), Thomas S. Passarra, President.

Navivan Corp., 200 Crofton Road, Ste. 2, Bldg. 10-B, Kenner, LA 70062, Officer: Ivan Lopez, President (Qualifying Individual).

Ocean Freight Forwarder—Ocean Transportation Intermediary Applicants:

Cabell Export LLC dba Cabell Export, 6125 Bay Pond Road, Ravenel, SC 29470, Officer: Kathryn E. Hardee, Member (Qualifying Individual).

Sahbell International Services, 18174 Riversage Dr., Ste. 120, Houston, TX 77084, Saheed Bello, Sole Proprietor.

Barinco International Corp., 5777 W. Century Blvd., Ste. 990, Los Angeles, CA 90045, Officer: Kathleen Howden, President (Qualifying Individual).

UPS Supply Chain Solutions, Inc. dba Menlo Worldwide Forwarding, 12380 Morris Road, Alpharetta, GA 30005, Officers: Jimmy Crabbe, Vice President (Qualifying Individual), Christine Callahan, COO.

Eriksson Classics, Inc., 3002 FM 517 E, Dickinson, TX 77539, Officer: Niklas Carl-Erik Eriksson, President (Qualifying Individual).

Dated: November 30, 2009.
Karen V. Gregory,
Secretary.

[FR Doc. E9-28884 Filed 12-2-09; 8:45 am]

BILLING CODE P